GOVERNMENT PRINTING OFFICE

Depository Library Council to the Public Printer Meeting

The Depository Library Council to the Public Printer (DLC) will meet on Sunday, October 16, 2005, through Wednesday, October 19, 2005, at Hyatt Regency Capitol Hill, in Washington DC.

The sessions will take place from 8 a.m. to 5 p.m. on Sunday through Tuesday, and 8 a.m. to 12 noon on Wednesday. The meeting will be held at the Hyatt Regency Capitol Hill, 400 New Jersey Avenue, NW., Washington DC. The purpose of this meeting is to discuss the Federal Depository Library Program. All sessions are open to the public. There are no more sleeping rooms available at the Hyatt Regency Capitol Hill for the Government rate of $153 per night. We have made arrangements with the Red Roof Inn to get additional sleeping rooms for our attendees. The Red Roof Inn has offered us rooms for Saturday, October 15 through Wednesday, October 19. Rates will be $119.99 per night (plus tax) single or double. This rate will be honored through October 1, 2005. You can reserve your room by calling the hotel directly at 202-289-5959 and mention that you are with the U.S. Government Printing Office group and give them the block code of B254GPO. The Red Roof Inn is in compliance with the requirements of Title III of the Americans With Disabilities Act and meets all Fire Safety Act regulations.

Bruce R. James,
Public Printer of the United States.

[FR Doc. 05-19027 Filed 9-22-05; 8:45 am]

BILLING CODE 1520-01-P